DEPARTMENT OF THE TREASURY

Submission for OMB Review; Comment Request

May 14, 2008.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 19, 2008 to be assured of consideration.

Bureau of Public Debt (BPD)

OMB Number: 1535-0113.

Type of Review: Revision.

Title: Disclaimer and Consent with Respect to United States Savings Bond/Notes.

Forms: PD F 1849.

Description: This form is used to obtain a disclaimer and consent as the result of an error in registration or otherwise the payment, refund of the purchase price, or reissue as requested by one person would appear to affect the right, title or interest of some other person.

Respondents: Individuals or households.

Estimated Total Burden Hours: 700 hours.

OMB Number: 1535-0059.

Type of Review: Revision.

Title: Special Form of Assignment for U.S. Registered Definitive Securities and U.S. Bearer Securities for Conversion to BECCS or CUBES.

Forms: PD F 1832.

Description: This form is used to certify assignments of U.S. Registered and Bearer Securities.

Respondents: Individuals or households.

Estimated Total Burden Hours: 1,250 hours.

Clearance Officer: Brian Lallemont, (304) 480-8150, Bureau of the Public Debt, 200 Third Street, Parkersburg, West Virginia 26106.

OMB Reviewer: Alexander T. Hunt, (202) 395-7316, Office of Management and Budget, Room 10235, New Executive Office Building, Washington, DC 20503.

Robert Dahl,
Treasury PRA Clearance Officer.

[FR Doc. E8-11212 Filed 5-19-08; 8:45 am]

BILLING CODE 4810-39-P